DEPARTMENT OF THE TREASURY

Internal Revenue Service

2009 Software Developers Conference

AGENCY: Internal Revenue Service (IRS), Treasury.

ACTION: Software Developers Conference Notification.

SUMMARY: The Internal Revenue Service will host the 2009 Software Developers Conference on June 8 and 9, 2009. The conference will be held at the Marriott Crystal Gateway Hotel in Arlington, Virginia. Listed is a summary of the agenda along with planned discussion topics.

Summarized Agenda for June 8 and June 9, 2009

9 a.m.—Conference Begins.

11:30 a.m.—Break for Lunch.

1 p.m.—Conference Resumes.

4:30 p.m.—Conference Adjourns.

DATES: The Software Developers Conference will be held on Monday and Tuesday, June 8 and June 9, 2009. The conference will be held in a room that accommodates approximately 400 people including IRS officials.

ADDRESSES: The conference will be held in the Marriott Crystal Gateway Hotel 1700 Jefferson Davis Highway, Arlington, VA 22202.

FOR FURTHER INFORMATION CONTACT: Registration for the Software Developers Conference may be assessed at http://www.irsSoftwareDevelopersConference.com/. Participants should register online for the conference by June 5. Participants may register online or by phone for blocked hotel rooms at a reduced rate by May 18. On site registration will also be available. If you need additional information, you may contact Justin McCarty at (202) 283-2665 or send an e-mail to IRS.SW.CONF@irs.gov.

SUPPLEMENTARY INFORMATION: The IRS Software Developers Conference provides information and dialogue on issues of interest to IRS e-file software developers and transmitters.

Dated: April 14, 2009.
Angela Kraus,
Chief, Relationship Management Branch, Strategic Services Division.

[FR Doc. E9-9509 Filed 4-24-09; 8:45 am]

BILLING CODE 4830-01-P